DEPARTMENT OF THE INTERIOR

National Park Service

National Register of Historic Places; Notification of Pending Nominations

Nominations for the following properties being considered for listing in the National Register were received by the National Park Service before February 8, 2003. Pursuant to section 60.13 of 36 CFR part 60 written comments concerning the significance of these properties under the National Register criteria for evaluation may be forwarded by United States Postal Service, to the National Register Historic Places, National Park Service, 1849 C St., NW., 2280, Washington, DC 20240; by all other carriers, National Register of Historic Places, National Park Service, 1201 Eye St., NW., 8th floor, Washington DC 20005; or by fax, 202-343-1836. Written or faxed comments should be submitted by March 31, 2003.

Carol D. Shull,
Keeper of the National Register of Historic Places.

Alaska

Lake and Peninsula Borough-Census Area

Savonoski River Archeological District (Boundary Increase), Address Restricted, Brooks Camp, 03000112.

California

Fresno County

Birdwell Rock Petroglyph Site, Address Restricted, Coalinga, 03000117.

Imperial County

Spoke Wheel Rock Alignment, Address Restricted, Ocotillo, 03000120.

Inyo County

Archeological site CA-INY-134, Address Restricted, Olancha, 03000116.

Kern County

Burro Schmidt's Tunnel, Address Restricted, Ridgecrest, 03000113.

Riverside County

Archeological Sites CA-RIV-504 and CA-RIV-773, Address Restricted, Blythe, 03000121.

Lederer, Gus, Site, Address Restricted, Desert Center, 03000118.

San Bernardino County

Archeological Site CA-SBR-140, Address Restricted, Baker, 03000119.

Iron Mountain Divisional Camp, (Desert Training Center/California-Arizona Maneuver Area (DTC/C-AMA) MPS), CA 62, Iron Mountain Pumping Plant, 03000114.

Shasta County

Swasey Discontiguous Archeological District, Address Restricted, Redding, 03000115.

Idaho

Ada County

Mittleider Farmstead Historic District, (Ada County, Idaho MPS) 575 Rumpel Ln., Meridian, 03000122.

Kootenai County

Spokane Valley Land and Water Company Canal, Diverts in Falls Park, Fourth St., Post Falls, 03000124.

Twin Falls County

Union School, (Public School Buildings in Idaho MPS), 21337 U.S. 30, Filer, 03000123.

Iowa

Davis County

Trimble—Parker Historic Farmstead District, 23981 240th St., Bloomfield, 03000125.

Missouri

St. Louis Independent City Arcade Building, 810 Olive St., St. Louis (Independent City), 03000126.

Montana

Powell County

Grant—Kohrs Ranch/Warren Ranch, Cattle Drive, Grant—Kohrs Ranch National Historic Site, Deer Lodge, 03000127.

New Jersey

Cape May County

Ocean City Residential Historic District, Roughly bounded by 3rd and 8th Sts. and Central and Ocean Aves., Ocean City, 03000129.

Warren County

Delaware Historic District, Ann, Clinton, Charles, and Valley Sts., Delaware Rd., NJ 46 and Ferry Ln., Knowlton Township, 03000128.

New York

Ontario County

Wilder Cemetery, NY 64, S. Bristol, 03000130.

Pennsylvania

Franklin County

Corker Hill, 1237 Garver Ln. Scotland, Greene Township, 03000131.

Tennessee

McMinn County

Etowah Carnegie Library, 723-725 Ohio Ave., Etowah, 03000132.

Wisconsin

Polk County

Frederic Depot, 210 Oak St. W, Frederic, 03000133.

A request for removal for the following resource:

Pennsylvania

Lehigh County

Bridge in Lynn Township, (Highway Bridges Owned by the Commonwealth of Pennsylvania, Department of Transportation TR), LR39112 over Ontelaunee Creek, Steinsville vicinity, 88000822.

[FR Doc. 03-6202 Filed 3-13-03; 8:45 am]

BILLING CODE 4310-70-P